DEPARTMENT OF HEALTH AND HUMAN SERVICES

Centers for Disease Control and Prevention

[60Day-25-25CQ; Docket No. CDC-2025-0004]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Healthcare Prevention and Response Workforce Development for Health Departments. The proposed workforce development evaluations will be used to assess whether the CDC-developed workforce development activities are reaching the intended audience and achieving the intended goal of strengthening public health workforce capacity to prevent and respond to Healthcare-Associated Infection and Antibiotic Resistance (HAI/AR) outbreaks at the individual trainee and program level.

DATES: CDC must receive written comments on or before March 18, 2025.

ADDRESSES: You may submit comments, identified by Docket No. CDC-2025-0004 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Healthcare-Associated Infections and Antimicrobial Resistance (HAI/R) Programs Response and Prevention Workforce Development Activities—New—National Center for Emerging and Zoonotic Infectious Diseases (NCEZID), Centers for Disease Control and Prevention (CDC).

Background and Brief Description

CDC funds Healthcare-Associated Infection and Antibiotic Resistance (HAI/AR) Programs in 65 state, local, and territorial health departments. Funding is awarded through the Epidemiology and Laboratory Capacity cooperative agreements (ELC). Funds are intended to provide critical resources to recipients in support of a broad range of healthcare infection prevention and control and epidemiologic surveillance activities to detect, monitor, mitigate, and prevent the spread of HAI/AR in healthcare settings.

CDC has developed various workforce development activities including high-priority trainings requested by the health department programs and CDC site visits. The goal of these activities is to strengthen public health workforce capacity to prevent and respond to HAI/AR outbreaks in healthcare settings and prepare for other emerging healthcare threats. Additionally, the evaluation data collected will be used to improve future CDC-developed resources.

CDC requests OMB approval for an estimated 455 annual burden hours. There is no cost to respondents other than their time to participate.

Estimated Annualized Burden Hours
Type of respondents | Form name | No. of respondents | No. of responses per respondent | Average burden per response | Total burden hours
Public Health Participants—Standard Trainings | Registration | 600 | 2 | 5/60 | 100
Public Health Participants—Standard Trainings | Pre-test | 600 | 2 | 5/60 | 100
Public Health Participants—Standard Trainings | Post-test | 600 | 2 | 5/60 | 100
Public Health Participants—Training Programs | Application | 30 | 1 | 120/60 | 60
HAI/AR Program Leads—Training Programs | Nomination Letter | 30 | 1 | 60/60 | 30
Public Health Participants—Training Programs | Activity Reports | 13 | 4 | 45/60 | 39
Public Health Participants—Training Programs | Program Evaluation | 13 | 1 | 30/60 | 7
HAI/AR Program Leads—Site Visits | Program Evaluation | 12 | 1 | 15/60 | 3
HAI/AR Program Leads | Program Impact of Workforce Development Activities | 65 | 1 | 15/60 | 16
Total |  |  |  |  | 455

Jeffrey M. Zirger,
Lead, Information Collection Review Office, Office of Public Health Ethics and Regulations, Office of Science, Centers for Disease Control and Prevention.

[FR Doc. 2025-01153 Filed 1-16-25; 8:45 am]

BILLING CODE 4163-18-P